DEPARTMENT OF AGRICULTURE

Commodity Credit Corporation

Request for Extension of Currently Approved Information Collection

AGENCY: Commodity Credit Corporation, USDA.

ACTION: Notice; request for public comment.

SUMMARY: In accordance with the Paperwork Reduction Act of 1995, this notice announces the intention of the Commodity Credit Corporation (CCC) to request an extension of an approved information collection to support the Tobacco Importer Assessments. This extension does not involve any revisions to the program rules.

DATES: Submit comments about this notice on or before March 19, 2002.

ADDRESSES: Mail or hand-deliver public comments regarding this notice to Director, Tobacco and Peanuts Division, FSA, USDA, 1400 Independence Avenue, SW, Room 5750-S, STOP 0514, Washington, DC 20250-0514. Comments may be sent by facsimile to (202) 720-0549. Comments may be sent by e-mail to: tob_comments@wdc.fsa.usda.gov.

FOR FURTHER INFORMATION CONTACT: Ann Wortham, Tobacco and Peanuts Division, (202) 720-2715.

SUPPLEMENTARY INFORMATION: Title: Importer Assessments.

OMB Control Number: 0560-0148.

Expiration Date: December 31, 2001.

Type of Request: Extension of a Currently Approved Information Collection.

Abstract: The information collected under OMB Control Number 0560-0148 constitutes all of the information required by CCC to effectively administer the statutory provisions for assessments on imported tobacco. Information collected from importers of unmanufactured tobacco is necessary to determine the amounts of assessments due and that the assessments are paid in a timely manner. The Omnibus Budget Reconciliation Act of 1993, Public Law 103-66, amended sections 106, 106A, and 106B, of the Agricultural Act of 1949, to require the payment of importer no-net-cost (INNC) assessments on imported unmanufactured tobacco. INNC assessments apply only to burley and flue-cured tobacco. Information is collected on form CCC-100, Importer Enter and Assessment Worksheet. The data reported thereon includes the importer's name and address, the importer's number, and the tobacco's entry number, Harmonized Tariff Schedule (HTS) number, as well as the quantity of tobacco, and amounts of assessments remitted.

Estimate of Burden: Public reporting burden for this collection of information is estimated at 45 minutes per response.

Respondents: Importers of unmanufactured tobacco for consumption in the United States, who may be individuals, small businesses, or large tobacco leaf dealers and cigarette manufacturers.

Estimated Number of Respondents: 40.

Estimated Number of Responses Per Respondent: 18.

Estimated Total Annual Burden on Respondents: 540 hours.

Request for Comment: Comment on the above notice is sought. Topics for comment may include, but need not be limited to: (a) Whether the collection of information is necessary for the proper performance of the functions of CCC, including whether the information will have practical utility; (b) the accuracy of CCC's estimate of burden including the validity of the methodology and assumptions used; (c) enhancing the quality, utility, and clarity of the information collected; and (d) minimizing the burden of the collection of information on respondents, including the use of appropriate automated electronic, mechanical, or other forms of informational technology.

Comments should be sent the Desk Officer for Agriculture, Office of Information and Regulatory Affairs, Office of Management and Budget, Washington, DC 20503 and to Director, Tobacco and Peanuts Division, at the addresses listed above. All responses to this notice will be summarized and included in the request for OMB approval. All comments will become a matter of public record.

Signed at Washington, DC, on December 31, 2001.
James R. Little,
Administrator, Farm Service Agency, and Executive Vice President, Commodity Credit Corporation.

[FR Doc. 02-1359 Filed 1-17-02; 8:45 am]

BILLING CODE 3410-05-P